ENVIRONMENTAL PROTECTION AGENCY

[EPA-HQ-OECA-2014-0059; FRL—9925-58-OEI]

Information Collection Request Submitted to OMB for Review and Approval; Comment Request; NESHAP for Natural Gas Transmission and Storage (Renewal)

AGENCY: Environmental Protection Agency (EPA).

ACTION: Notice.

SUMMARY: The Environmental Protection Agency (EPA) has submitted an information collection request (ICR), “NESHAP for Natural Gas Transmission and Storage (40 CFR part 63, subpart HHH) (Renewal)” (EPA ICR No. 1789.09, OMB Control No. 2060-0418) to the Office of Management and Budget (OMB) for review and approval in accordance with the Paperwork Reduction Act (44 U.S.C. 3501 et seq.). This is a proposed extension of the ICR, which is currently approved through April 30, 2015. Public comments were previously requested via the Federal Register (79 FR 30117) on May 27, 2014 during a 60-day comment period. This notice allows for an additional 30 days for public comments. A fuller description of the ICR is given below, including its estimated burden and cost to the public. An agency may not conduct or sponsor and a person is not required to respond to a collection of information unless it displays a currently valid OMB control number.

DATES: Additional comments may be submitted on or before May 22, 2015.

ADDRESSES: Submit your comments, referencing Docket ID Number EPA-HQ-OECA-2014-0059, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA WJC West, Room 3334, 1301 Constitution Ave. NW., Washington, DC. The telephone number for the Docket Center is 202-566-1744. For additional information about EPA's public docket, visit http://www.epa.gov/dockets.

Abstract: The National Emission Standards for Hazardous Air Pollutants (NESHAP) for Natural Gas Transmission and Storage (40 CFR part 63, subpart HHH) applies to existing facilities and new facilities that are major sources of hazardous air pollutants (HAP) and that either transport or store natural gas prior to entering the pipeline to a local distribution company or to a final end user (if there is no local distribution company). New respondents include those that commenced construction, or reconstruction after the date of proposal of the initial rule and of the 2012 rule amendments. In general, all NESHAP standards require initial notifications, performance tests, and periodic reports. These notifications, reports, and records are essential in determining compliance, and are required of all sources subject to NESHAP standards.

Form Numbers: None.

Respondents/affected entities: Natural gas transport and storage facilities.

Respondent's obligation to respond: Mandatory (40 CFR part 63, subpart HHH).

Estimated number of respondents: 37 (total).

Frequency of response: Initially, occasionally, and semiannually.

Total estimated burden: 2,000 hours (per year). Burden is defined at 5 CFR 1320.3(b).

Total estimated cost: $205,000 (per year), which includes no annualized capital or operation & maintenance costs.

Changes in the Estimates: There is a decrease of 391 hours in the total estimated respondent burden compared with the ICR currently approved by OMB. This is due to a correction in burden estimates and the consolidation of 2060-0670 with this ICR, as well as the rounding of estimates.

Courtney Kerwin,
Acting Director, Collection Strategies Division.

[FR Doc. 2015-09357 Filed 4-21-15; 8:45 am]

BILLING CODE 6560-50-P